DEPARTMENT OF HEALTH AND HUMAN SERVICES

Centers for Disease Control and Prevention

[Docket Number: NIOSH 278]

Board of Scientific Counselors, National Institute for Occupational Safety and Health (BSC, NIOSH)

AGENCY: Centers for Disease Control and Prevention (CDC), Department of Health and Human Services (HHS).

ACTION: Notice of meeting.

SUMMARY: In accordance with the Federal Advisory Committee Act, the CDC announces the following meeting of the Board of Scientific Counselors, National Institute for Occupational Safety and Health (BSC, NIOSH). This meeting is open to the public, limited only by the space available. The meeting room accommodates approximately 33 people. The meeting is also open to the public via webcast. If you wish to attend in person or by webcast, please see the NIOSH website to register (http://www.cdc.gov/niosh/bsc/) or call (404-498-2539) at least five business days in advance of the meeting. Teleconference is available toll-free; please dial (888) 397-9578, Participant Pass Code 63257516. Adobe Connect webcast will be available at https://odniosh.adobeconnect.com/nioshbsc/ for participants wanting to connect remotely. This meeting is open to the public, limited only by the space available. The public is welcome to participate during the public comment period, 12:30 p.m. to 12:45 p.m., EDT, September 27, 2018. Please note that the public comment period ends at the time indicated above. Each commenter will be provided up to five minutes for comment. A limited number of time slots are available and will be assigned on a first come-first served basis. Written comments will also be accepted from those unable to attend the public session via an on-line form at the following website: http://www.cdc.gov/niosh/bsc/contact.html.

DATES: The meeting will be held on September 27, 2018, 8:30 a.m.-2:30 p.m., EDT.

ADDRESSES: Patriots Plaza I, 395 E Street SW, Room 9000, Washington, DC 20201.

FOR FURTHER INFORMATION CONTACT: Alberto Garcia, M.S., Executive Secretary, BSC, NIOSH, CDC, 1090 Tusculum Avenue, MS-R5, Cincinnati, OH 45226, telephone (513) 841-4596, fax (513) 841-4506, email: agarcia1@cdc.gov.

SUPPLEMENTARY INFORMATION:

Purpose: The Secretary, the Assistant Secretary for Health, and by delegation the Director, Centers for Disease Control and Prevention, are authorized under Sections 301 and 308 of the Public Health Service Act to conduct directly or by grants or contracts, research, experiments, and demonstrations relating to occupational safety and health and to mine health. The Board of Scientific Counselors provides guidance to the Director, National Institute for Occupational Safety and Health on research and prevention programs. Specifically, the Board provides guidance on the Institute's research activities related to developing and evaluating hypotheses, systematically documenting findings and disseminating results. The Board evaluates the degree to which the activities of the National Institute for Occupational Safety and Health: (1) Conform to appropriate scientific standards, (2) address current, relevant needs, and (3) produce intended results.

Matters to be Considered: The agenda for the meeting addresses occupational safety and health issues related to: NIOSH confronts the Opioid Crisis; 21st Century Surveillance Report; and Enhancing the Transparency of NIOSH Science. An agenda is also posted on the NIOSH website (http://www.cdc.gov/niosh/bsc/). Members of the public who wish to address the NIOSH BSC are requested to contact the Executive Secretary for scheduling purposes (see contact information below). Alternatively, written comments to the BSC may be submitted via an on-line form at the following website: http://www.cdc.gov/niosh/bsc/contact.html. Agenda items are subject to change as priorities dictate.

The Director, Management Analysis and Services Office, has been delegated the authority to sign Federal Register notices pertaining to announcements of meetings and other committee management activities, for both the Centers for Disease Control and Prevention and the Agency for Toxic Substances and Disease Registry.

Sherri A. Berger,
Chief Operating Officer, Centers for Disease Control and Prevention.

[FR Doc. 2018-17042 Filed 8-8-18; 8:45 am]

BILLING CODE 4163-18-P